DEPARTMENT OF COMMERCE

International Trade Administration

[A-570-836]

Glycine From the People's Republic of China: Preliminary Results of Antidumping Duty Administrative Review and Rescission of Antidumping Duty Administrative Review, In Part; 2015-2016

AGENCY: Enforcement and Compliance, International Trade Administration, Department of Commerce.

SUMMARY: The Department of Commerce (the Department) is conducting an administrative review of the antidumping duty order on glycine from the People's Republic of China (the PRC) covering the period of review (POR) from March 1, 2015, through February 29, 2016. We preliminarily determine that sales of subject merchandise by Baoding Mantong Fine Chemistry Co., Ltd. (Baoding Mantong) were made at less than normal value during the POR. Further, we are rescinding the review with respect to Kumar Industries and Rudraa International. Finally, we preliminarily find Huayang Chemical Co., Ltd. (Huayang Chemical) failed to establish eligibility for a separate rate and is being considered part of the PRC-wide entity. Interested parties are invited to comment on these preliminary results.

DATES: Effective April 7, 2017.

FOR FURTHER INFORMATION CONTACT: Dena Crossland or Brian Davis, AD/CVD Operations, Office VI, Enforcement and Compliance, International Trade Administration, U.S. Department of Commerce, 1401 Constitution Avenue NW., Washington, DC 20230; telephone: (202) 482-3362 or (202) 482-7924, respectively.

SUPPLEMENTARY INFORMATION:

Background

These preliminary results are made in accordance with section 751(a) of the Tariff Act of 1930, as amended (the Act). The Department published a notice of opportunity to request an administrative review of the antidumping duty order on glycine from the PRC for the POR on March 1, 2016.¹ On May 2, 2016, in response to a timely request from domestic interested party, GEO Specialty Chemicals, Inc. (GEO), and in accordance with section 751(a) of the Act and 19 CFR 351.221(c)(1)(i), we initiated an administrative review of the antidumping duty order on glycine from the PRC (Order).² For a complete description of the events that followed the initiation of this review, see the Preliminary Decision Memorandum.³ A list of topics included in the Preliminary Decision Memorandum is provided as an appendix to this notice. The Preliminary Decision Memorandum is a public document and is on file electronically via Enforcement and Compliance's Antidumping and Countervailing Duty Centralized Electronic Service System (ACCESS). ACCESS is available to registered users at https://access.trade.gov, and to all parties in the Central Records Unit, room B8024 of the main Department of Commerce building. In addition, a complete version of the Preliminary Decision Memorandum can be accessed directly at http://enforcement.trade.gov/frn/. The signed and the electronic versions of the Preliminary Decision Memorandum are identical in content.

¹ See Antidumping or Countervailing Duty Order, Finding, or Suspended Investigation; Opportunity to Request Administrative Review, 81 FR 10580 (March 1, 2016).

² See Antidumping Duty Order: Glycine from the People's Republic of China, 60 FR 16116 (March 29, 1995) (Order); see also Initiation of Antidumping and Countervailing Duty Administrative, 81 FR 26203 (May 2, 2016).

³ See Memorandum, “Decision Memorandum for the Preliminary Results of the Antidumping Duty Administrative Review of Glycine from the People's Republic of China,” dated concurrently with, and hereby adopted by, this notice (Preliminary Decision Memorandum).

Scope of the Order

The product covered by the antidumping duty order is glycine, which is a free-flowing crystalline material, like salt or sugar.⁴ The subject merchandise is currently classifiable under the Harmonized Tariff Schedule of the United States (HTSUS) subheading 2922.49.4020. The HTSUS subheading is provided for convenience and customs purposes only; the written product description of the scope of the order is dispositive.⁵

⁴ See Preliminary Decision Memorandum for a complete description of the scope of the Order.

⁵ See Order.

PRC-Wide Entity

Because the Department preliminarily determines that Huayang Chemical is not eligible for a separate rate because it failed to respond to the Department's antidumping questionnaire, we, find that it is part of the PRC-wide entity. The Department's policy regarding conditional review of the PRC-wide entity applies to this administrative review.⁶ Under this policy, the PRC-wide entity will not be under review unless a party specifically requests, or the Department self-initiates, a review of the entity. Because no party requested a review of the PRC-wide entity in this review, the entity is not under review and the entity's rate from the previous administrative review (i.e., 453.79 percent) is not subject to change.⁷

⁶ See Antidumping Proceedings: Announcement of Change in Department Practice for Respondent Selection in Antidumping Duty Proceedings and Conditional Review of the Nonmarket Economy Entity in NME Antidumping Duty Proceedings, 78 FR 65963, 65970 (November 4, 2013) (Conditional Review of NME Entity Notice).

⁷ See Glycine from the People's Republic of China: Final Results of Antidumping Duty Administrative Review and Partial Rescission of Antidumping Duty Administrative Review; 2013-2014, 80 FR 62027 (October 15, 2015) (Glycine Final 2013-2014).

Methodology

The Department is conducting this review in accordance with section 751(a)(1)(B) of the Act. Because the PRC is a non-market economy within the meaning of section 771(18) of the Act, normal value is calculated in accordance with section 773(c) of the Act. For a full description of the methodology underlying our preliminary results, see the Preliminary Decision Memorandum.

Rescission of Review

Pursuant to 19 CFR 351.213(d)(1), the Department will rescind an administrative review, “in whole or in part, if a party that requested a review withdraws the request within 90 days of the date of publication of notice of initiation of the requested review.” GEO withdrew its request within the 90-day limit with respect to Kumar Industries and Rudraa International. Because we received no other requests for review of Kumar and Rudraa, we are rescinding the administrative review of Kumar and Rudraa, in accordance with 19 CFR 351.213(d)(1).

Preliminary Results of Review

The Department has preliminarily determined that the following dumping margin exists for the period March 1, 2015, through February 29, 2016:

Exporter | Dumping margin (percent)
Baoding Mantong Fine Chemistry Co. Ltd | 71.83

Disclosure and Public Comment

The Department intends to disclose calculations performed for these preliminary results to the parties within five days of the date of publication of this notice in accordance with 19 CFR 351.224(b). Pursuant to 19 CFR 351.309(c), interested parties may submit case briefs no later than 30 days after the date of publication of these preliminary results of review.⁸ Parties who submit case briefs or rebuttal briefs in this proceeding are encouraged to submit with each argument: (1) A statement of the issue; (2) a brief summary of the argument; and (3) a table of authorities.⁹ Rebuttal briefs, limited to issues raised in the case briefs, may be filed no later than five days after the case briefs are filed.¹⁰

⁸ See 19 CFR 351.309(c)(1)(ii).

⁹ See 19 CFR 351.309(c)(2).

¹⁰ See 19 CFR 351.309(d).

Interested parties who wish to request a hearing must submit a written request to the Assistant Secretary for Enforcement and Compliance, U.S. Department of Commerce, filed electronically using ACCESS. An electronically filed document must be received successfully in its entirety by the Department's ACCESS by 5:00 p.m. Eastern Time within 30 days after the date of publication of this notice.¹¹ Hearing requests should contain the following: (1) The party's name, address, and telephone number; (2) the number of participants; and (3) a list of the issues to be discussed. Issues raised in the hearing will be limited to those raised in the respective case briefs.

¹¹ See 19 CFR 351.310(c).

Unless extended, the Department intends to issue the final results of this review, including the results of its analysis of issues raised by parties in their comments, within 120 days after the publication of these preliminary results, pursuant to section 751(a)(3)(A) of the Act and 19 CFR 351.213(h)(1).

Assessment Rates

Upon issuing the final results of review, the Department will determine, and CBP shall assess, antidumping duties on all appropriate entries covered by this review.¹² If a respondent's weighted-average dumping margin is above de minimis (i.e., 0.5 percent) in the final results of this review, we will calculate an importer-specific assessment rate on the basis of the ratio of the total amount of dumping calculated for the importer's examined sales and the total entered value of those sales in accordance with 19 CFR 351.212(b)(1). Specifically, the Department will apply the assessment rate calculation method adopted in Final Modification for Reviews.¹³ Where an importer- (or customer-) specific ad valorem rate is zero or de minimis, we will instruct CBP to liquidate appropriate entries without regard to antidumping duties.¹⁴

¹² See 19 CFR 351.212(b)(1).

¹³ See Antidumping Proceeding: Calculation of the Weighted-Average Dumping Margin and Assessment Rate in Certain Antidumping Duty Proceedings; Final Modification, 77 FR 8103 (February 14, 2012) (Final Modification for Reviews).

¹⁴ See 19 CFR 351.106(c)(2).

For entries that were not reported in the U.S. sales databases submitted by exporters individually examined during this review, the Department will instruct CBP to liquidate such entries at the PRC-wide rate. In addition, if the Department determines that an exporter under review had no shipments of the subject merchandise, any suspended entries that entered under that exporter's case number (i.e., at that exporter's rate) will be liquidated at the PRC-wide rate.¹⁵ The Department intends to issue appropriate assessment instructions directly to CBP 15 days after publication of the final results of review.

¹⁵ Id.

Finally, with respect to Kumar Industries and Rudraa International, the companies for which these reviews are rescinded, antidumping duties shall be assessed at rates equal to the cash deposit of estimated antidumping duties required at the time of entry, or withdrawal from warehouse, for consumption, in accordance with 19 CFR 351.212(c)(1)(i). The Department intends to issue appropriate assessment instructions to CBP 15 days after publication of this notice.

Cash Deposit Requirements

The following cash deposit requirements will be effective upon publication of the final results of this administrative review for shipments of the subject merchandise from the PRC entered, or withdrawn from warehouse, for consumption on or after the publication date, as provided by section 751(a)(2)(C) of the Act: (1) For subject merchandise exported by the companies listed above that have separate rates, the cash deposit rate will be that established in the final results of review (except, if the rate is zero or de minimis, then zero cash deposit will be required); (2) for previously investigated or reviewed PRC and non-PRC exporters not listed above that received a separate rate in a prior segment of this proceeding, the cash deposit rate will continue to be the existing exporter-specific rate; (3) for all PRC exporters of subject merchandise that have not been found to be entitled to a separate rate, including Huayang Chemical, the cash deposit rate will be that for the PRC-wide entity; and (4) for all non-PRC exporters of subject merchandise which have not received their own rate, the cash deposit rate will be the rate applicable to the PRC exporter that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Notification to Interested Parties

We are issuing and publishing these results in accordance with sections 751(a)(1) and 777(i)(1) of the Act and 19 CFR 351.213.

Dated: March 31, 2017.
Ronald K. Lorentzen,
Acting Assistant Secretary for Enforcement and Compliance.

Appendix—List of Topics Discussed in the Preliminary Decision Memorandum

I. Summary

II. Background

III. Scope of the Order

IV. Discussion of the Methodology

A. Bona Fides Inquiry

B. Non-Market Economy (NME) Country Status

C. Separate Rates Determination

1. Absence of De Jure Control

2. Absence of De Facto Control

D. The PRC-Wide Entity

E. Surrogate Country

1. Same Level of Economic Development

2. Producers of Identical or Comparable Merchandise

3. Data Considerations

V. Fair Value Comparisons

A. Determination of Comparison Method

B. Date of Sale

C. U.S. Price

1. Export Price

2. Value-Added Tax

D. Normal Value

E. Factor Valuations

F. Market Economy (ME) Prices

G. Surrogate Values

VI. Currency Conversion

VII. Recommendation

[FR Doc. 2017-06994 Filed 4-6-17; 8:45 am]

BILLING CODE 3510-DS-P